DEPARTMENT OF COMMERCE

National Oceanic and Atmospheric Administration

[RTID 0648-XD277]

Fisheries of the Exclusive Economic Zone Off Alaska; Pacific Cod Trawl Cooperative Program; Public Workshop

AGENCY: National Marine Fisheries Service (NMFS), National Oceanic and Atmospheric Administration (NOAA), Commerce.

ACTION: Notification of public workshop.

SUMMARY: NMFS will present a public workshop on the implementation of the Pacific cod Trawl Cooperative Program (PCTC Program or Program) for potentially eligible participants and other interested parties. The PCTC Program allocates Pacific cod harvest quota to qualifying groundfish License Limitation Program (LLP) license holders and qualifying processors and requires participants to form cooperatives to harvest the quota. At the workshop, NMFS will provide an overview of the PCTC Program, discuss the key PCTC Program elements, describe the process for participating in the Program, and answer questions. NMFS is conducting this public workshop to provide assistance to fishery participants in understanding and reviewing this Program.

DATES: The same workshop will be presented in Seattle and then via webinar. The first workshop will be held in-person on Wednesday, September 20, 2023 from 5:30 to 7:30 p.m. Pacific Standard Time in Seattle, Washington and will not have a webinar option. The second workshop will be held via webinar on Wednesday, September 27, 2023 from 5:30 to 7:30 p.m. Alaska Standard Time.

ADDRESSES: The first workshop on September 20 will be held in Seattle, Washington at The Mountaineers Seattle Program Center, 7700 Sand Point Way NE, Seattle, WA 98115. The second workshop will be held via webinar and the link to the meeting is: https://meet.google.com/oky-ajgw-nhm. A phone connect is also available by calling +1 502-518-3401 and entering the following pin number: 163 659 782#.

FOR FURTHER INFORMATION CONTACT: Stephanie Warpinski, stephanie.warpinski@noaa.gov, (907)-586-7234.

SUPPLEMENTARY INFORMATION: NMFS published a final rule that implements Amendment 122 to the Bering Sea and Aleutian Islands Management Area (BSAI) Groundfish Fishery Management Plan (FMP) on (88 FR 53704, August 8, 2023). The PCTC Program assigns Pacific cod harvest quota to qualifying groundfish LLP license holders and qualifying processors. The Program is a limited access privilege program for the harvest of Pacific cod in the BSAI trawl catcher vessel (CV) sector. Under the Program, participants holding quota share (QS) form harvesting cooperatives in association with a processor to harvest the annual harvest privilege of Pacific cod.

The PCTC Program implements a complex suite of measures to improve fishery conditions for all participants. This Program establishes criteria for harvesters and processors in the BSAI trawl CV sector Pacific cod fishery to qualify for and receive QS, criteria for allocating QS in the initial year of implementation, and criteria for the transfer of QS. QS holders are required to join a cooperative (harvesters) or associate with a cooperative (processors). The aggregate QS of cooperative members and associated processors yields an exclusive harvest privilege for PCTC Program cooperatives, which NMFS will issue as cooperative quota (CQ) each year. CQ represents a portion of the A and B season BSAI trawl CV sector Pacific cod Directed Fishing Allowance (DFA). Of the total annual CQ, 77.5 percent is derived from QS issued to LLP licenses, and 22.5 percent is derived from QS issued to processors. The DFA for the C season remains available for harvest as a limited access fishery open to all CVs with the required trawl gear and area endorsements on the LLP license assigned to the vessel.

As required under Magnuson-Stevens Act section 303A(c)(5)(D), the PCTC Program includes ownership and use caps to prevent a permit holder from acquiring an excessive share of the fishery. No person is permitted to hold more than 5 percent of harvester-issued QS or 20 percent of processor-issued QS. In addition, no vessel is allowed to harvest more than 5 percent of the annual CQ, and no company is allowed to process more than 20 percent of the annual CQ. The PCTC Program also includes legacy exemptions for persons over these ownership and use caps at the time of PCTC Program implementation, allowing participants to maintain levels of historical participation rather than forcing divestiture.

The PCTC Program reduces the halibut and crab Prohibited Species Catch (PSC) limits for participating trawl CVs during the A and B seasons. NMFS will apportion halibut and crab PSC limits to PCTC Program cooperatives during the annual harvest specifications process based on the percentage of total BSAI Pacific cod CQ allocated to each cooperative.

To support the sustained participation of AI communities in the Pacific cod trawl CV fishery, cooperatives are required to collectively set-aside 12 percent of the A season CQ for delivery to an Aleutian Islands shoreplant (AI CQ set-aside) during years in which an AI community representative notifies NMFS of their intent to process Pacific cod.

At this time, NMFS mailed out official records to eligible participants who have until October 10, 2023 to submit the Application for PCTC Program QS to NMFS. Any participants who do not join or associate with a cooperative by November 1 will not receive benefits from their QS for the 2024 fishing season. On November 1, 2023, all cooperatives must submit Applications for PCTC Program Cooperative Quota to NMFS. For the calendar year 2023, to provide for implementation of the Program during its first year, NMFS will allow each cooperative to submit the inter-cooperative agreement on or before December 31, 2023, after the November 1 deadline for the Application for PCTC Program CQ.

NMFS is conducting two public workshops to provide assistance to fishery participants in reviewing the requirements of the Program. At the workshops, NMFS will provide an overview of the Program, and discuss the key Program elements, including the process to apply for QS; cooperative and limited access participation provisions; cooperative quota transfer provisions; the appeals process; monitoring and enforcement; and electronic reporting. Additionally, NMFS will answer questions from workshop participants. For further information on the Program, please visit the NMFS Alaska Region website here: https://www.fisheries.noaa.gov/action/amendment-122-fishery-management-plan-groundfish-bering-sea-and-aleutian-islands-management.

Special Accommodations

Requests for sign language interpretation or other auxiliary aids should be directed to Stephanie Warpinski, stephanie.warpinski@noaa.gov, at least 5 working days prior to the meeting date.

Dated: August 23, 2023.
Jennifer M. Wallace,
Acting Director, Office of Sustainable Fisheries, National Marine Fisheries Service.

[FR Doc. 2023-18530 Filed 8-25-23; 8:45 am]

BILLING CODE 3510-22-P